DEPARTMENT OF COMMERCE

International Trade Administration

[A-570-093]

Refillable Stainless Steel Kegs From the People's Republic of China: Final Results of the Antidumping Duty Administrative Review; 2021-2022

AGENCY: Enforcement and Compliance, International Trade Administration, Department of Commerce.

SUMMARY: The U.S. Department of Commerce (Commerce) determines that Guangzhou Jingye Machinery Co., Ltd. (Jingye), Guangzhou Ulix Industrial & Trading Co., Ltd. (Ulix), and the remaining 39 companies for which the administrative review was initiated, are not eligible for separate rates and are therefore, part of the People's Republic of China (China)-wide entity. The period of review (POR) is December 1, 2021, through November 30, 2022.

DATES: Applicable April 11, 2024.

FOR FURTHER INFORMATION CONTACT: Aleksandras Nakutis or Jacob Keller, AD/CVD Operations, Office I, Enforcement and Compliance, International Trade Administration, U.S. Department of Commerce, 1401 Constitution Avenue NW, Washington, DC 20230; telephone: (202) 482-3147 and (202) 482-4849, respectively.

SUPPLEMENTARY INFORMATION:

Background

On December 7, 2023, Commerce published in the Federal Register the preliminary results of the administrative review of the antidumping duty order on refillable stainless steel kegs from China and invited interested parties to comment.¹ For a complete description of the events that occurred since Commerce published the Preliminary Results, see the Issues and Decision Memorandum.² Commerce conducted this review in accordance with section 751(a) of the Tariff Act of 1930, as amended (the Act).

¹ See Refillable Stainless Steel Kegs from the People's Republic of China: Preliminary Results of the Antidumping Duty Administrative Review; 2021-2022, 88 FR 85230 (December 7, 2023) (Preliminary Results), and accompanying Preliminary Decision Memorandum.

² See Memorandum, “Issues and Decision Memorandum for the Final Results of the Antidumping Duty Administrative Review of Refillable Stainless Steel Kegs from the People's Republic of China; 2021-2022,” dated concurrently with, and hereby adopted by, this notice (Issues and Decision Memorandum).

Scope of the Order ³

³ See Refillable Stainless Steel Kegs from the Federal Republic of Germany and the People's Republic of China: Antidumping Duty Orders, 84 FR 68405 (December 16, 2019) (Order).

The merchandise covered by this Order are kegs, vessels, or containers with bodies that are approximately cylindrical in shape, made from stainless steel (i.e., steel containing at least 10.5 percent chromium by weight and less than 1.2 percent carbon by weight, with or without other elements), and that are compatible with a “D Sankey” extractor (refillable stainless steel kegs) with a nominal liquid volume capacity of 10 liters or more, regardless of the type of finish, gauge, thickness, or grade of stainless steel, and whether or not covered by or encased in other materials. The merchandise covered by the Order are currently classified in the Harmonized Tariff Schedule of the United States (HTSUS) under subheadings 7310.10.0010, 7310.10.0050, 7310.29.0025, and 7310.29.0050. These HTSUS subheadings are provided for convenience and customs purposes; the written description of the scope of the Order is dispositive. A full description of the scope of the Order is provided in the Issues and Decision Memorandum.

Analysis of Comments Received

All issues raised in the briefs filed by interested parties are addressed in the Issues and Decision Memorandum and are listed in Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Results and Referral to U.S. Customs and Border Protection

Based on record information, Commerce determines that all 41 companies subject to this administrative review are a part of the China-wide entity.⁴ For reasons discussed in the Issues Decision Memorandum, Commerce is treating Ulix and Jingye as part of the China-wide entity, and Commerce referred its findings to U.S. Customs and Border Protection (CBP) to investigate potential evasion of the Order.

⁴ See Appendix II.

China-Wide Entity

Commerce considers the 41 companies for which a review was requested (which did not file a separate rate application or did not demonstrate separate rate eligibility) listed in Appendix II to this notice, to be part of the China-wide entity.⁵

⁵ See Initiation of Antidumping and Countervailing Duty Administrative Reviews, 88 FR 7060 (February 2, 2023) (“All firms listed below that wish to qualify for separate rate status in the administrative reviews involving {non-market economy} countries must complete, as appropriate, either a separate rate application or certification, as described below.”); see also Appendix II for the list of companies that are subject to this administrative review that are considered to be part of the China-wide entity.

Assessment Rates

Commerce intends to issue assessment instructions to CBP no earlier than 35 days after the date of publication of the final results of review in the Federal Register. If a timely summons is filed at the U.S. Court of International Trade, the assessment instructions will direct CBP not to liquidate relevant entries until the time for parties to file a request for a statutory injunction has expired (i.e., within 90 days of publication).⁶ Commerce will instruct CBP to apply an ad valorem assessment rate of 63.60 percent to all entries of subject merchandise during the POR which were exported by the companies considered to be a part of the China-wide entity listed in Appendix II of this notice.

⁶ See 19 CFR 351.212(b)(1).

Cash Deposit Requirements

The following cash deposit requirements will be effective upon publication of the final results of this review for shipments of the subject merchandise from China entered, or withdrawn from warehouse, for consumption on or after the publication date, as provided by section 751(a)(2)(C) of the Act: (1) for any previously investigated or reviewed Chinese or non-Chinese exporter that has a separate rate, the cash deposit rate will continue to be the exporter's existing cash deposit rate; (2) for all Chinese exporters of subject merchandise that have not been found to be entitled to a separate rate and identified in Appendix II of this notice, the cash deposit rate will be that for the China-wide entity (i.e., 63.60 percent); and (3) for all non-Chinese exporters of subject merchandise which have not received their own rate, the cash deposit rate will be the rate applicable to the Chinese exporter(s) that supplied that non-Chinese exporter. These cash deposit requirements, when imposed, shall remain in effect until further notice.

Administrative Protective Order

This notice also serves as a final reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a sanctionable violation.

Notification to Importers

This notice also serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties, and/or an increase in the amount of antidumping duties by the amount of countervailing duties.

Notification to Interested Parties

We are issuing and publishing these final results of review in accordance with sections 751(a)(l) and 777(i) of the Act, and 19 CFR 351.213(h)(1) and 351.221(b)(5).

Dated: April 4, 2024.
Ryan Majerus,
Deputy Assistant Secretary for Policy and Negotiations, performing the non-exclusive functions and duties of the Assistant Secretary for Enforcement and Compliance.

Appendix I—List of Topics Discussed in the Issues and Decision Memorandum

I. Summary

II. Background

III. Scope of the Order

IV. Discussion of the Issues

Comment 1: Whether Jingye's and Ulix's Information Is Reliable to Determine No Shipments

Comment 2: Whether Commerce Should Grant Jingye and Ulix a Separate Rate

V. Recommendation

Appendix II—Companies Considered To Be Part of the China-Wide Entity

1. Dalian Yonghseng Metal Structure Co., Ltd. d/b/a DYM Brewing Solutions

2. Equipmentimes (Dalian) E-Commerce Co., Ltd.

3. Guangzhou Jingye Machinery Co., Ltd.

4. Guangzhou Ulix Industrial & Trading Co., Ltd.

5. Jinan Chenji International Trade Co., Ltd.

6. Jinan Chenji Machinery Equipment Co., Ltd.

7. Jinan HaoLu Machinery Equipment Co., Ltd.

8. Jinjiang Jiaxing Import and Export Co., Ltd.

9. NDL Keg Qingdao Inc.

10. Ningbo All In Brew Technology Co.

11. Ningbo BestFriends Beverage Containers Industry Co., Ltd.

12. Ningbo Chance International Trade Co., Ltd.

13. Ningbo Direct Import & Export Co., Ltd.

14. Ningbo Haishu Direct Import and Export Trade Co., Ltd.

15. Ningbo Haishu Xiangsheng Metal Factory

16. Ningbo Hefeng Container Manufacturer Co., Ltd.

17. Ningbo Hefeng Kitchen Utensils Manufacture Co., Ltd.

18. Ningbo HGM Food Machinery Co., Ltd.

19. Ningbo Jiangbei Bei Fu Industry and Trade Co., Ltd.

20. Ningbo Kegco International Trade Co., Ltd.

21. Ningbo Kegstorm Stainless Steel Co., Ltd.

22. Ningbo Minke Import & Export Co., Ltd.

23. Ningbo Sanfino Import & Export Co., Ltd.

24. Ningbo Shimaotong International Co., Ltd.

25. Ningbo Sunburst International Trading Co., Ltd.

26. Orient Equipment (Taizhou) Co., Ltd.

27. Penglai Jinfu Stainless Steel Products.

28. Pera Industry Shanghai Co., Ltd.

29. Qingdao Henka Precision Technology Co., Ltd.

30. Qingdao Xinhe Precision Manufacturing Co., Ltd.

31. Rain Star International Trading Dalian Co., Ltd.

32. Shandong Meto Beer Equipment Co., Ltd.

33. Shandong Tiantai Beer Equipment Co., Ltd.

34. Shandong Tonsen Equipment Co., Ltd.

35. Shandong Yuesheng Beer Equipment Co., Ltd.

36. Shenzhen Wellbom Technology Co., Ltd.

37. Sino Dragon Group, Ltd.

38. Wenzhou Deli Machinery Equipment Co.

39. Wuxi Taihu Lamps and Lanterns Co., Ltd.

40. Yantai Toptech Ltd.

41. Yantai Trano New Material Co., Ltd., d/b/a Trano Keg, d/b/a SS Keg.

[FR Doc. 2024-07671 Filed 4-10-24; 8:45 am]

BILLING CODE 3510-DS-P